DEPARTMENT OF LABOR

Employment and Training Administration

[TA-W-62,752]

Dynamerica Manufacturing, LLC, Muncie, IN; Notice of Negative Determination on Reconsideration

On April 1, 2008, the Department issued an Affirmative Determination Regarding Application for Reconsideration for the workers and former workers of the subject firm. The notice was published in the Federal Register on April 11, 2008 (73 FR 19896).

The initial investigation resulted in a negative determination based on the finding that criteria I.B. and II.B. have not been met. There were no plant sales or production declines nor was there as shift in production from the subject firm abroad.

In the request for reconsideration the petitioner stated that he did not have exact knowledge of the subject firm's sales or production, but alleged that “DynAmerica was and still is struggling financially” and provided a history of the declining employment at the subject firm.

On reconsideration, the Department contacted a company official to address these allegations. The official confirmed the accuracy of the statements released by the subject firm in the initial investigation regarding sales and production at Dynamerica Manufacturing LLC, Muncie, Indiana. Furthermore, the company official provided additional financial documentation supporting the facts that sales and production at the subject firm increased from 2006 to 2007.

The petitioner further stated that the subject firm acquired a facility in Mexico and alleged that production has been shifted from Muncie facility to Mexico. In particular, the petitioner alleged, that the subject firm “shipped presses and multislides to Mexico and the dies to make parts that they were running at DynAmerica.”

The company official stated that Dynamerica Manufacturing LLC manufactures metal stampings in the plant in Mexico. The official emphasized that metal stampings manufactured in Mexico are not like or directly competitive with automotive safety components manufactured at Muncie plant.

Furthermore, the company official stated that there was no shift in production of automotive safety components from Dynamerica Manufacturing LLC, Muncie, Indiana to Mexico in 2006 and 2007. The machinery mentioned by the petitioner in the request for reconsideration were purchased by Dynamerica specifically for its Mexican facility. The documentation shows that this machinery was shipped to Muncie plant for maintenance, safety and fit of tooling prior to being shipped to Mexico. “Once the tool was debugged in the press, the tool and press was shipped Mexico.” The official stated that the reason for the workers separations is related to a domestic shift in plant production.

The investigation on reconsideration revealed that sales and production and the subject firm increased from 2006 to 2007 and that there was no shift in production abroad of articles like or directly competitive with the products manufactured by workers of the subject firm.

Conclusion

After reconsideration, I affirm the original notice of negative determination of eligibility to apply for worker adjustment assistance for workers and former workers of Dynamerica Manufacturing, LLC, Muncie, Indiana.

Signed at Washington, DC, this 17th day of April, 2008.
Elliott S. Kushner,
Certifying Officer, Division of Trade Adjustment Assistance.

[FR Doc. E8-8780 Filed 4-22-08; 8:45 am]

BILLING CODE 4510-FN-P